DEPARTMENT OF HOMELAND SECURITY

Transportation Security Administration

Opening of Opportunity for Shippers To Register as Certified Cargo Screening Facilities

AGENCY: Transportation Security Administration, DHS.

ACTION: Notice.

SUMMARY: The Transportation Security Administration (TSA) is announcing an opportunity for qualified, interested shippers who agree to implement certain security controls to join the Certified Cargo Screening Program (CCSP). This notice provides the procedures necessary to initiate the registration process.

DATES: Applicable August 8, 2023.

ADDRESSES: Interested persons can contact aircargoprograms@tsa.dhs.gov to obtain a copy of the information discussed in this notice.

FOR FURTHER INFORMATION CONTACT: Thomas Friedman, Industry Engagement Manager, Air Cargo Division, Policy Plans and Engagement, TSA; Telephone (571) 227-3555; email: aircargoprograms@tsa.dhs.gov.

SUPPLEMENTARY INFORMATION:

I. Background

TSA is required by law to ensure the adequacy of security measures for the transportation of air cargo.¹ TSA developed the CCSP in 2009 ² to provide additional means of compliance with statutory requirements for screening 100 percent of cargo transported on passenger aircraft.³ The program established a new regulatory framework to screen cargo to TSA standards, relieving the air carrier of the space, time, and cost pressures associated with screening cargo using technical means on airport grounds. Any cargo screening program that is compliant with the CCSP regulation meets all national and international standards required to transport cargo aboard any commercial aircraft, including passenger and all-cargo aircraft. Under 49 CFR part 1549, all registered CCSFs must operate under the Certified Cargo Screening Standard Security Program (CCSSSP).

¹ 49 U.S.C. 44901.

² 76 FR 51848 (Aug. 18, 2011), codified at 49 CFR part 1549.

³ See 49 U.S.C. 44901(g), added by section 1602 of the Implementing Recommendations of the 9/11 Commission Act of 2007, Public Law 110-53 (121 Stat. 266; Aug. 3, 2007).

Since establishment of the CCSP, TSA has recognized other capabilities under this regulatory structure. For example, in 2018, TSA announced an opportunity for canine providers to become Certified Cargo Screening Facilities-Canine (CCSF-K9).⁴ The availability to use CCSF-K9s to screen cargo was a critical part of TSA's efforts to support implementation of a mandate for members of the International Civil Aviation Organization (ICAO) to screen 100 percent of air cargo transported on international aircraft, with no distinction for passenger versus all-cargo aircraft, beginning June 30, 2021. CCSF-K9s are required to comply with the security program issued under the authority of 49 CFR part 1549.

⁴ See 83 FR 60883 (Nov. 27, 2018).

TSA has also historically recognized Shipper-CCSFs.⁵ Shipper-CCSFs are manufacturers who apply the security controls required under the CCSP in the course of manufacturing or packaging their products, who can directly transfer their manufactured goods or products to an aircraft operator without a requirement for additional screening. Cargo tendered by a Shipper-CCSF may be transported on any commercial aircraft. Many medical device and pharmaceutical manufacturers operate today as Shipper CCSFs. The CCSP—including CCSFs, CCSFs-K9 and Shipper-CCSFs—is fully compliant with ICAO requirements for air cargo. TSA has approved Shipper-CCSFs when requested, but has never fully integrated these operations into the CCSSSP.

⁵ See, e.g., 01 FR 26229 (May 13, 2021), 30-day notice for information collection under 49 CFR part 1548, “the CCSP allows shippers, indirect air carriers, and other entities to voluntarily participate in a program through which TSA certifies entities to screen air cargo off-airport before it is tendered to air carriers for transport on passenger aircraft.” (emphasis added)

II. How To Become a Registered CCSF

TSA has decided to streamline its security programs by incorporating procedures for Shipper CCSFs into the CCSSSP and, through this notice, ensuring broad announcement of this opportunity for shippers to register to operate as CCSFs. To operate as a CCSF, a shipper must register with TSA's CCSSSP office and be approved as a holder of the CCSSSP. The security program includes the requirements to become a CCSF and, as applicable to shippers and manufacturers, the operational requirements for screening their own products during the course of manufacturing and packaging, and to screen other air cargo items to national and international security standards.

TSA is publishing this notice to ensure all interested persons are aware of the opportunity to become a CCSF. To initiate the registration process, shippers must send an email indicating their interest to the email address identified above under FOR FURTHER INFORMATION CONTACT and TSA will respond with additional information regarding the application requirements, including the required procedures to obtain access to Sensitive Security Information (SSI) pursuant to 49 CFR part 1520. Once TSA approves the applicant's access to SSI, TSA will provide a copy of the CCSSSP, which includes the detailed requirements for an application to become a CCSF. In general, each applicant must submit the information required by 49 CFR 1549.7(a)(1). Each applicant also must undergo an onsite corporate assessment performed by TSA. TSA will use this information to evaluate the applicant's qualifications and readiness to participate in the CCSP.

The shipper may commence operations as a CCSF under the security program after it receives written approval from TSA that all of TSA's requirements are met. As a CCSF, the shipper could directly transfer cargo to an aircraft operator without requiring additional screening. A new registration under the CCSP is effective for 36 months from the date of approval.

Dated: August 3, 2023.
Eddie D. Mayenschein,
Assistant Administrator, Policy, Plans, and Engagement.

[FR Doc. 2023-16928 Filed 8-7-23; 8:45 am]

BILLING CODE 9110-05-P